ENVIRONMENTAL PROTECTION AGENCY

[EPA-HQ-OLEM-2022-0611; FRL-10127-01-OLEM]

The Hazardous Waste Electronic Manifest (e-Manifest) System Advisory Board; Notice of Public Meeting

AGENCY: Environmental Protection Agency (EPA).

ACTION: Notice.

SUMMARY: The Environmental Protection Agency (EPA) will convene the Hazardous Waste Electronic System (e-Manifest) Advisory Board for a three (3) day virtual public meeting. The purpose of the meeting is for EPA to seek the Board's consultation and recommendations regarding the e-Manifest system (Meeting Theme: “Roadmap to 100% Electronic Manifests”).

DATES: Virtual Public Meeting: The meeting will be held October 4-6, 2022, from 10:00 a.m. to approximately 6:00 p.m. (EDT). See the additional details and instructions for registration that appear in sIII of this notice.

ADDRESSES: This public meeting will be conducted virtually. Registration online is required to attend and/or provide oral public comment during this meeting. Please refer to the e-Manifest Advisory Board website at https://www.epa.gov/e-manifest/hazardous-waste-electronic-manifest-system-e-manifest-advisory-board for information on how to register as either a public audience attendee or as an oral public commenter. For additional instructions related to this meeting, see section III of this notice.

Comments: To make oral comments during the public meeting and be included on the meeting agenda, please register by noon on September 27, 2022. Registration instructions will be posted on the e-Manifest Advisory Board website at https://www.epa.gov/e-manifest/hazardous-waste-electronic-manifest-system-e-manifest-advisory-board. Submit written comments on or before September 27, 2022, in the public docket under Docket number EPA-HQ-OLEM-2022-0611 at http://www.regulations.gov. Written comments submitted to the public docket on or before September 27, 2022, will be provided to the e-Manifest Advisory Board for their consideration before the meeting. Anyone who wishes to submit comments after September 27, 2022, must send their written public comments or their oral comment requests directly to the Designated Federal Officer (DFO) listed under FOR FURTHER INFORMATION CONTACT. For additional instructions, see section III of this notice.

Special accommodations. For information on access or services for individuals with disabilities, and to request accommodation of a disability, please contact the DFO listed under FOR FURTHER INFORMATION CONTACT at least ten (10) days prior to the meeting to give the EPA as much time as possible to process your request.

FOR FURTHER INFORMATION CONTACT: Fred Jenkins, Designated Federal Officer (DFO), U.S. Environmental Protection Agency, Office of Resource Conservation and Recovery, email: jenkins.fred@epa.gov; phone: 202-564-0344.

SUPPLEMENTARY INFORMATION: This meeting will be open to the public. The full agenda and meeting materials will be available in the docket for the meeting and at the e-Manifest Advisory Board website at https://www.epa.gov/e-manifest/hazardous-waste-electronic-manifest-system-e-manifest-advisory-board. This public meeting will be conducted virtually, and registration is required to attend and/or participate. Registration instructions will be posted on the e-Manifest Advisory Board website at https://www.epa.gov/e-manifest/hazardous-waste-electronic-manifest-system-e-manifest-advisory-board. In the event EPA needs to make subsequent changes to this meeting, EPA will post future notices to its e-Manifest Board meeting website (https://www.epa.gov/e-manifest/hazardous-waste-electronic-manifest-system-e-manifest-advisory-board.). EPA strongly encourages the public to refer to the e-Manifest website for the latest meeting information, as sudden changes may be necessary.

I. General Information

A. Does this action apply to me?

This action is directed to the public in general. This action may be of particular interest to persons who are or may be subject to the Hazardous Waste Electronic Manifest Establishment (e-Manifest) Act.

B. Where can I access information about the e-Manifest Advisory Board and this meeting?

Information about the e-Manifest Advisory Board is available on the e-Manifest Advisory Board website, https://www.epa.gov/e-manifest/hazardous-waste-electronic-manifest-system-e-manifest-advisory-board. Information about this meeting will be available by early September 2022 in the public docket, identified by docket ID number EPA-HQ-OLEM-2022-0611, at https://www.regulations.gov and on the e-Manifest Advisory Board website. You may also subscribe to the following listserv for alerts when notices regarding this and other e-Manifest Advisory Board related activities are published: eManifest-subscribe@lists.epa.gov.

II. Background

A. Purpose of the e-Manifest Advisory Board

The Hazardous Waste Electronic Manifest (e-Manifest) System Advisory Board is established in accordance with the provisions of the Hazardous Waste Electronic Manifest Establishment Act, 42 U.S.C. 6939g, and the Federal Advisory Committee Act (FACA), 5 U.S.C. App.2. The e-Manifest Advisory Board is in the public interest and supports the EPA in performing its duties and responsibilities. The Board shall meet annually to discuss, evaluate the effectiveness of, and provide recommendations about the system to the EPA Administrator.

The sole duty of the Advisory Board is to provide advice and recommendations to the EPA Administrator. As required by the e-Manifest Act, the e-Manifest Advisory Board is composed of nine (9) members. One (1) member is the EPA Administrator (or a designee), who serves as Chairperson of the Advisory Board. The rest of the committee is composed of:

• At least two (2) members who have expertise in information technology;

• At least three (3) members who have experience in using or represent users of the manifest system to track the transportation of hazardous waste under the e-Manifest Act;

• At least three (3) members who are state representatives responsible for processing manifests.

All members of the e-Manifest Advisory Board, except for the EPA Administrator, are appointed as Special Government Employees or Representatives.

B. Public Meeting

EPA launched the e-Manifest system on June 30, 2018. e-Manifest provides those persons required to use a Resource Conservation and Recovery Act (RCRA) manifest under either federal or state law the option of using electronic manifests to track shipments of hazardous waste and to meet certain RCRA requirements. By enabling the transition from a paper-intensive process to an electronic system, EPA estimates e-Manifest will ultimately save state and industry users more than $50 million annually, once electronic manifests are widely adopted.

Since system inception through May 2022, EPA has received roughly 25 thousand electronic manifests (both fully electronic and hybrid manifests) out of a total of approximately 7 million manifests. Electronic manifests thus represent less than a half of a percent of manifests received by EPA. EPA seeks to dramatically increase this percentage.

EPA hosted two virtual public meetings on October 27, 2021, and November 3, 2021, to discuss how to increase electronic adoption and solicit feedback from stakeholders. The meetings described existing electronic manifest functionality and the feasibility of several options to increase use of electronic manifests. As a next step in this effort, EPA will convene its next public meeting of the e-Manifest System Advisory Board from October 4-6, 2022. The meeting will include discussion of the comments EPA received from the public meetings, as well as related policy and technical changes EPA is considering for the e-Manifest system to increase adoption of electronic manifests. The general purpose of this meeting is for the Board to advise the Agency on these potential changes.

C. e-Manifest Advisory Board Documents and Meeting Minutes

The meeting background paper along with related supporting materials including the charge questions to the Advisory Board, the Advisory Board membership roster (i.e., members attending this meeting), and the meeting agenda will be available by approximately early-September 2022. In addition, EPA may provide additional background documents as the materials become available. You may obtain electronic copies of these documents, and certain other related documents that might be available at http://www.regulations.gov via the docket ID number EPA-HQ-OLEM-2022-0611 and at the e-Manifest Advisory Board website at: https://www.epa.gov/e-manifest/hazardous-waste-electronic-manifest-system-e-manifest-advisory-board.

The e-Manifest Advisory Board will prepare meeting minutes summarizing its recommendations to EPA approximately ninety (90) days after the meeting. The meeting minutes will be posted on the e-Manifest Advisory Board website, or they may be obtained from the public docket at http://www.regulations.gov via the docket ID number EPA-HQ-OLEM-2022-0611.

III. Public Participation Instructions

To participate in the virtual public meeting, please follow the instructions in this section.

A. How can I provide comments?

1. Written comments. EPA encourages the electronic submission of written comments via http://www.regulations.gov, into docket ID number EPA-HQ-OLEM-2022-0611 on or before September 27, 2022, to provide the e-Manifest Advisory Board the time necessary to consider and review the written comments. Written comments are accepted until the date of the meeting, but anyone submitting written comments after September 27, 2022, should contact the DFO listed under FOR FURTHER INFORMATION CONTACT.

Do not submit electronically any information you consider to be Confidential Business Information (CBI) or other information whose disclosure is restricted by statute. Copyrighted material will not be posted without explicit permission of the copyright holder. Multimedia submissions (audio, video, etc.) must be accompanied by a written comment. The written comment is considered the official comment and should include discussion of all points you wish to make. Members of the public should also be aware that their personal contact information, if included in any written comments, may be posted on the internet at https://www.regulations.gov.

The EPA will generally not consider comments or comment contents located outside of the primary submission (e.g., on the web, cloud, or other file sharing system). For additional submission methods, the full EPA public comment policy, information about CBI or multimedia submissions, please visit https://www.epa.gov/dockets/commenting-epa-dockets.When preparing and submitting your comments, see Tips for Effective Comments at the same website, https://www.epa.gov/dockets/commenting-epa-dockets.

2. Oral comments. The Agency encourages each individual or group wishing to make brief oral comments to the e-Manifest Advisory Board during the virtual public meeting to please register as an oral commenter for the meeting at the e-Manifest Advisory Board website, https://www.epa.gov/e-manifest/hazardous-waste-electronic-manifest-system-e-manifest-advisory-board, by noon on September 27, 2022, in order to be included on the meeting agenda. Requests to present oral comments will be accepted until the date of the meeting. Registration is required to attend and/or participate as an oral public commenter in this public meeting. Please refer to the e-Manifest Advisory Board website at https://www.epa.gov/e-manifest/hazardous-waste-electronic-manifest-system-e-manifest-advisory-board for information on how to register either as an oral public commenter or public audience attendee. Anyone submitting an oral public comments request after September 27, 2022, should also contact the DFO listed under FOR FURTHER INFORMATION CONTACT. To the extent that time permits, the Chair of the e-Manifest Advisory Board may permit the presentation of oral comments at the meeting by interested persons who have not previously requested time. The request should identify the name of the individual making the presentation, the organization (if any) that the individual represents, and any requirements for audiovisual presentation support. Oral comments before the e-Manifest Advisory Board are limited to approximately five (5) minutes unless prior arrangements have been made. In addition, each speaker should provide a copy of their comments and presentation to the DFO so that they can be distributed to the e-Manifest Advisory Board at the meeting.

Dated: August 9, 2022.
Jody Barringer,
Acting Director, Office of Resource Conservation and Recovery.

[FR Doc. 2022-17401 Filed 8-11-22; 8:45 am]

BILLING CODE 6560-50-P